DEPARTMENT OF ENERGY

Federal Energy Regulatory Commission

Combined Notice of Filings #1

Take notice that the Commission received the following exempt wholesale generator filings:

Docket Numbers: EG20-237-000.

Applicants: Riverstart Solar Park LLC.

Description: Notice of Self-Certification of Exempt Wholesale Generator Status of Riverstart Solar Park LLC.

Filed Date: 8/26/20.

Accession Number: 20200826-5030.

Comments Due: 5 p.m. ET 9/16/20.

Docket Numbers: EG20-238-000.

Applicants: Alta Oak Realty, LLC.

Description: Notice of Self-Certification of Exempt Wholesale Generator Status of Alta Oak Realty, LLC.

Filed Date: 8/26/20.

Accession Number: 20200826-5109.

Comments Due: 5 p.m. ET 9/16/20.

Take notice that the Commission received the following electric rate filings:

Docket Numbers: ER17-2059-004; ER10-3097-009.

Applicants: Puget Sound Energy, Inc., Bruce Power Inc.

Description: Amendment to July 1, 2019 Updated Market Power Analysis in the Northwest Region for Puget Sound Energy, Inc., et al.

Filed Date: 8/24/20.

Accession Number: 20200824-5250.

Comments Due: 5 p.m. ET 9/14/20

Docket Numbers: ER19-697-001.

Applicants: Cheyenne Light, Fuel and Power Company.

Description: Report Filing: Refund Report under EL19-41, ER19-697 to be effective N/A.

Filed Date: 8/26/20.

Accession Number: 20200826-5037.

Comments Due: 5 p.m. ET 9/16/20.

Docket Numbers: ER20-1616-001.

Applicants: Western Spirit Transmission LLC.

Description: Compliance filing: Facilities Use Agreement—Compliance Filing per 6/19/2020 Order to be effective 6/19/2020.

Filed Date: 8/26/20.

Accession Number: 20200826-5081.

Comments Due: 5 p.m. ET 9/16/20.

Docket Numbers: ER20-2148-001.

Applicants: Lexington Chenoa Wind Farm LLC.

Description: Tariff Amendment: Deficiency Filing Lexington Chenoa Reactive Rate Schedule to be effective 8/23/2020.

Filed Date: 8/26/20.

Accession Number: 20200826-5066.

Comments Due: 5 p.m. ET 9/16/20.

Docket Numbers: ER20-2249-000.

Applicants: Priogen Power LLC.

Description: Amendment to June 30, 2020 Priogen Power LLC tariff filing.

Filed Date: 8/24/20.

Accession Number: 20200824-5131.

Comments Due: 5 p.m. ET 9/3/20.

Docket Numbers: ER20-2741-000.

Applicants: Public Service Company of New Mexico.

Description: § 205(d) Rate Filing: PIA with Pattern and Tecolote to be effective 10/24/2020.

Filed Date: 8/25/20.

Accession Number: 20200825-5140.

Comments Due: 5 p.m. ET 9/15/20.

Docket Numbers: ER20-2742-000.

Applicants: Pennsylvania Electric Company, Jersey Central Power & Light Company, Metropolitan Edison Company, PJM Interconnection, L.L.C.

Description: § 205(d) Rate Filing: Penelec, JCPL, and MetEd submit Revised WASPs, SA Nos. 4221, 4222, and 4223 to be effective 10/25/2020.

Filed Date: 8/25/20.

Accession Number: 20200825-5141.

Comments Due: 5 p.m. ET 9/15/20.

Docket Numbers: ER20-2743-000.

Applicants: Southwest Power Pool, Inc.

Description: § 205(d) Rate Filing: 3552R2 TEA and MEAN Meter Agent Agreement to be effective 8/1/2020.

Filed Date: 8/26/20.

Accession Number: 20200826-5003.

Comments Due: 5 p.m. ET 9/16/20.

Docket Numbers: ER20-2744-000.

Applicants: Southwest Power Pool, Inc.

Description: § 205(d) Rate Filing: 2626 KCP&L, KCP&L GMO & Transource MO Novation Cancellation to be effective 8/26/2020.

Filed Date: 8/26/20.

Accession Number: 20200826-5004.

Comments Due: 5 p.m. ET 9/16/20.

Docket Numbers: ER20-2745-000.

Applicants: Midcontinent Independent System Operator, Inc.

Description: § 205(d) Rate Filing: 2020-08-26_SA 2807 Entergy Arkansas-Entergy Arkansas 1st Rev GIA (J376) to be effective 8/12/2020.

Filed Date: 8/26/20.

Accession Number: 20200826-5029.

Comments Due: 5 p.m. ET 9/16/20.

Docket Numbers: ER20-2746-000.

Applicants: Riverstart Solar Park LLC.

Description: Baseline eTariff Filing: Market-Based Rate Application to be effective 10/26/2020.

Filed Date: 8/26/20.

Accession Number: 20200826-5099.

Comments Due: 5 p.m. ET 9/16/20.

Docket Numbers: ER20-2747-000.

Applicants: Southern California Edison Company.

Description: § 205(d) Rate Filing: DSA Silverstrand Grid, LLC & Cancel Letter Agreement to be effective 10/26/2020.

Filed Date: 8/26/20.

Accession Number: 20200826-5043.

Comments Due: 5 p.m. ET 9/16/20.

Docket Numbers: ER20-2748-000.

Applicants: Southwest Power Pool, Inc.

Description: § 205(d) Rate Filing: 3720 Thunderhead Wind Energy/Evergy KS CentralMeter Agent Ag to be effective 8/1/2020.

Filed Date: 8/26/20.

Accession Number: 20200826-5051.

Comments Due: 5 p.m. ET 9/16/20.

Docket Numbers: ER20-2749-000.

Applicants: New York Independent System Operator, Inc., Niagara Mohawk Power Corporation.

Description: § 205(d) Rate Filing: NYISO jointly filed a SGIA among NYISO, NMPC and Duke Energy, SA No. 2549 to be effective 8/20/2020.

Filed Date: 8/26/20.

Accession Number: 20200826-5088.

Comments Due: 5 p.m. ET 9/16/20.

Docket Numbers: ER20-2750-000.

Applicants: PacifiCorp.

Description: § 205(d) Rate Filing: UAMPS TSOA Rev 5 to be effective 10/25/2020.

Filed Date: 8/26/20.

Accession Number: 20200826-5091.

Comments Due: 5 p.m. ET 9/16/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2020.
Kimberly D. Bose,
Secretary.

[FR Doc. 2020-19248 Filed 8-31-20; 8:45 am]

BILLING CODE 6717-01-P